DEPARTMENT OF COMMERCE

National Oceanic and Atmospheric Administration

RIN 0648-XE052

North Pacific Fishery Management Council; Public Meeting

AGENCY: National Marine Fisheries Service (NMFS), National Oceanic and Atmospheric Administration (NOAA), Commerce.

ACTION: Notice of a public meeting.

SUMMARY: The North Pacific Fishery Management Council's (Council) Legislative Committee will meet by teleconference.

DATES: The meeting will be held on August 4, 2015, 1 p.m. to 5 p.m., please call NMFS-AKR-RA Conference Line 907-586-7060 (max 30).

ADDRESSES: North Pacific Fishery Management Council, 605 W. 4th Avenue, Suite 306 Anchorage, AK 99501-2252.

FOR FURTHER INFORMATION CONTACT: Chris Oliver, Executive Director; phone: (907) 271-2809.

SUPPLEMENTARY INFORMATION: The Committee will discuss and develop comments on pending legislation regarding Magnuson-Stevens Act reauthorization or other fisheries related legislation. The Agenda is subject to change, and the latest version will be posted at http://www.npfmc.org/.

Special Accommodations

The meeting is physically accessible to people with disabilities. Requests for sign language interpretation or other auxiliary aids should be directed to Shannon Gleason at (907) 271-2809 at least 7 working days prior to the meeting date.

Dated: July 14, 2015.
Tracey L. Thompson,
Acting Deputy Director, Office of Sustainable Fisheries, National Marine Fisheries Service.

[FR Doc. 2015-17590 Filed 7-16-15; 8:45 am]

BILLING CODE 3510-22-P